DEPARTMENT OF AGRICULTURE

Grain Inspection, Packers and Stockyards Administration

Designation for the Georgia, Montana, and Cedar Rapids (IA) Areas

AGENCY: Grain Inspection, Packers and Stockyards Administration, USDA.

ACTION: Notice.

SUMMARY: We are announcing designation of the following organizations to provide official services under the United States Grain Standards Act, as amended (USGSA): Georgia Department of Agriculture (Georgia); Montana Department of Agriculture (Montana); and Mid-Iowa Grain Inspection, Inc. (Mid-Iowa). We are also announcing an amendment of Mid-Iowa's designated geographic area.

DATES: Effective July 1, 2008.

ADDRESSES: USDA, GIPSA, Karen Guagliardo, Chief, Review Branch, Compliance Division, STOP 3604, Room 1647-S, 1400 Independence Avenue, SW., Washington, DC 20250-3604.

FOR FURTHER INFORMATION CONTACT: Karen Guagliardo at 202-720-7312, e-mail Karen.W.Guagliardo@usda.gov.

Read Applications: All applications and comments will be available for public inspection at the office above during regular business hours (7 CFR 1.27(b)).

SUPPLEMENTARY INFORMATION: In the December 3, 2007, Federal Register (72 FR 67885), we requested applications for designation to provide official services in the geographic areas assigned to the official agencies named above. The notice stated incorrectly that applications were due by January 2, 2009. This was subsequently corrected in the February 15, 2008, Federal Register (73 FR 8851), and applications were due by February 25, 2008.

Georgia and Montana were the sole applicants for designation to provide official services in the entire area currently assigned to them, so GIPSA did not ask for additional comments on them. There were three applicants for the Cedar Rapids, Iowa area consisting of parts of northeast Iowa, southeast Minnesota, and eastern Texas, so GIPSA asked for additional comments on the three applicants:

• Gulf Country Inspection Service, Inc. (Gulf Country) applied for the entire Cedar Rapids, Iowa area. Gulf Country subsequently amended its application and applied for just the east Texas region.

• South Texas Grain Inspection, LLC (South Texas) applied for a part of the east Texas region.

• Mid-Iowa Grain Inspection, Inc. (Mid-Iowa) applied for its entire current designation in Cedar Rapids, Iowa.

In the March 26, 2008 Federal Register (73 FR 15968), we requested comments on the applicants for designation to provide official services in the geographic areas assigned to Mid-Iowa. Comments were due by April 25, 2008. GIPSA received six positive comments on South Texas from officials of four grain companies.

We evaluated all available information regarding the designation criteria in section 7(f)(1) of USGSA (7 U.S.C. 79(f)) and determined that Georgia and Montana are able to provide official services in the geographic areas specified in the December 3, 2007, Federal Register, for which they applied. These designation actions to provide official services are effective July 1, 2008, and terminate June 30, 2011, for Georgia and Montana. GIPSA determined that Mid-Iowa is able to provide official services in the Iowa and Minnesota geographic areas specified in the December 3, 2007, Federal Register, for which it applied. The designation for Mid-Iowa is a one-year designation, effective July 1, 2008, and terminating June 30, 2009 to allow GIPSA additional time to determine the adequacy of performance in its Iowa and Minnesota geographic area. In accordance with section 7(f)(1)(A), GIPSA determined that none of the applicants are able to provide service in the Texas region that is described as follows:

Bounded on the north by the northern Young, Jack, Montague, Cooke, Grayson, Fannin, Lamar, Red River, Morris, and Marion County line east to the Texas State line;

Bounded on the east by the eastern Texas State line south to the southern Texas State line;

Bounded on the south by the southern Texas State line west to the western Val Verde County line;

Bounded on the west by the western Val Verde, Edwards, Kimble, Mason, San Saba, Mills, Comanche, Eastland, Stephens, and Young County lines north to the northern Young County line. The geographic area does not include the export port locations which are serviced by GIPSA.

Since a qualified applicant is not available on an interim basis, GIPSA will provide needed services in the east Texas region until such time that a qualified applicant is available. Interested persons may obtain official services by calling the telephone numbers listed below.

Official agency | Headquarters location and telephone | Designation start-end
Georgia | Atlanta, GA, 229-386-3129, Additional Location: Tifton, GA | 7/1/2008-6/30/2011.
Montana | Helena, MT, 406-452-9561, Additional Location: Great Falls, MT | 7/1/2008-6/30/2011.
Mid-Iowa | Cedar Rapids, IA, 319-363-0239, Additional Location: Des Moines, IA | 7/1/2008-6/30/2009.

GIPSA field office | Telephone |
League City | 281-338-2787 | Service starting 7/1/2008 in part of Texas (described above).

Section 7(f)(1) of the USGSA, authorizes GIPSA's Administrator to designate a qualified applicant to provide official services in a specified area after determining that the applicant is better able than any other applicant to provide such official services (7 U.S.C. 79(f)(1)).

Section 7(g)(1) of USGSA provides that designations of official agencies will terminate not later than three years and may be renewed according to the criteria and procedures prescribed in section 7(f) of USGSA.

Authority: 7 U.S.C. 71-87k.

Alan Christian,
Acting Administrator, Grain Inspection, Packers and Stockyards Administration.

[FR Doc. E8-12236 Filed 5-30-08; 8:45 am]

BILLING CODE 3410-KD-P